DEPARTMENT OF JUSTICE

Antitrust Division

Notice Pursuant to the National Cooperative Research and Production Act of 1993—Medical Technology Enterprise Consortium

Notice is hereby given that, on January 9, 2024, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Act Medical, Ltd., Loughborough, GREAT BRITIAN; Affinity Associates LLC, Holden Beach, NC; Akthelia, Reykjavik, ICELAND; Altra, Inc., Las Vegas, NV; Amazon Web Services, Arlington, VA; AutoMedicus Corp., Pasadena, CA; AutonomUS Medical Technologies, Inc., Cambridge, MA; Collabralink Technologies, Inc., dba Groundswell, McLean, VA; Compression Works, Inc., Birmingham, AL; Convergent Clinical, Inc., Carlsbad, CA; DesiCorp, Inc., Louisville, KY; Digital Velocity Partners LLC, Chevy Chase, MD; Duquesne University of the Holy Spirit, Pittsburgh, PA; E4 Technology, Inc., Huntsville, AL; Elemance LLC, Winston Salem, NC; Endpoint Health, Palo Alto, CA; Epineuron Technologies, Inc., Mississauga, CANADA; First Nation Group LLC, Niceville, FL; Fistula Solution Corp., Scandia, MN; Global Resonance Technologies LLC, Shelburne, VT; Grande Delta Corp., Alameda, CA; GrayMatters Health Ltd., Haifa, ISRAEL; Halomine, Inc., Ithaca, NY; International Scientific Advisors, Inc. dba MilMed Connect, Beaverton, OR; JDSAT, Inc., Mclean, VA; JLM ExoGrade LLC, Austin, TX; KardioGenics, Inc., San Jose, CA; Legacy US, Inc., Boise, ID; Longhorn Vaccines and Diagnostics LLC, Bethesda, MD; Longhorn Vaccines and Diagnostics LLC, Bethesda, MD; MedStar Health Research Institute, Inc., Hyattsville, MD; Muscle Activation Techniques, Englewood, CO; Nuream, Inc., Wilmington, NC; NZ Technologies, Inc., Vancouver, CANADA; Padagis US LLC, Allegan, MI; Physcient Surgical, Inc., Durham, NC; Powerboard Life Systems, Inc., San Francisco, CA; ppx-TEC LLC, Jackson, MS; RedC Biotech, Ltd., Bnei Zion, ISRAEL; RESDEF, Inc., Chicago, IL; Sigma Genetics, Inc. Seattle, WA; Soar Technology LLC, Ann Arbor, MI; Sperry Bio, Inc., Springfield, VT; Sterogene Bioseparations, Inc., Carlsbad, CA; Sutton's Creek, Westlake, CA; Syracuse University, Syracuse, NY; Tachmed, Inc., New York, NY; Texas Christian University, Fort Worth, TX; The Huntsman Mental Health Foundation, Salt Lake City, UT; Turner Imaging Systems, Orem, UT; University of Alabama, Huntsville, Huntsville, AL; University of Chicago, Chicago, IL; University of Texas Southwestern Medical Center, Dallas, TX; Vascarta Inc., Short Hills, NJ; Vaxart, Inc., South San Francisco, CA; Vaxxas, Cambridge, MA; Verndari, Inc., Rancho, Cordova, CA; Vigor Medical Technologies, Ltd., Haifa, ISRAEL; Virpax Pharmaceuticals, Inc., Berwyn, PA; Vivosang, Inc., Santa Fe, NM; and Xtory, Inc., Arlington, MA, have been added as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on October 2, 2023. A notice was published in the Federal Register pursuant to section 6(b) of the Act on December 15, 2023 (88 FR 86932).

Suzanne Morris,
Deputy Director Civil Enforcement Operations, Antitrust Division.

[FR Doc. 2024-02255 Filed 2-5-24; 8:45 am]

BILLING CODE